DEPARTMENT OF THE INTERIOR

Geological Survey

[GX24EN05ESK0000]

Agency Information Collection Activities; The Impact and Potential of “Co-Production” in Addressing Climate Adaptation Across the Pacific Islands

AGENCY: U.S. Geological Survey, Department of the Interior.

ACTION: Notice of information collection; request for comment.

SUMMARY: In accordance with the Paperwork Reduction Act of 1995 (PRA), the U.S. Geological Survey (USGS) is proposing a new information collection.

DATES: Interested persons are invited to submit comments on or before September 23, 2024.

ADDRESSES: Send your comments on this information collection request (ICR) by mail to USGS, Information Collections Clearance Officer, 12201 Sunrise Valley Drive, MS 159, Reston, VA 20192; or by email to gs-info_collections@usgs.gov. Please reference OMB Control Number 1028-NEW CASC Co-Production Assessment.

FOR FURTHER INFORMATION CONTACT: To request additional information about this ICR, contact Mari-Vaughn Johnson by email at mvjohnson@usgs.gov or by telephone at 808-208-3142. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), all information collections require approval under the PRA. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Project A

Abstract: The Pacific Islands Climate Adaptation Science Center (PI-CASC) involves a partnership between U.S. Geological Survey (USGS) and a university consortium including the University of Hawai'i at Mānoa, the University of Hawai'i at Hilo, and the University of Guam. PI-CASC aims to support a portfolio of research projects that foster long-lasting partnerships between researchers, natural and cultural resource stewards and managers, and community leaders. While building local capacities, PI-CASC endeavors to co-develop the science/knowledge bases informing our current understanding of climate change and its impacts, as well as how we might take steps to adapt to those impacts across the Pacific Islands. PI-CASC is seeking to conduct surveys and interviews with project leaders, collaborators, and community members to better understand the state of co-production across the portfolio and how such cooperative efforts may be improved moving forward. The proposed survey and interviews will collect the following information:

• The state of collaborative relationships between project partners, the community, and others since project completion.

• Status of products developed via PICASC funding (e.g., new grant awards, research articles, presentations, workshops, visualization tools, assessments, guidance documents, etc.).

• PI-CASC experience's influence on approaches taken in other projects.

The information collected in this effort will be used to improve the approach to developing climate adaptation science/knowledge production and concomitant management/stewardship plans in future PI-CASC work.

Title of Collection: The Impact and Potential of “Co-Production” in Addressing Climate Adaptation across the Pacific Islands.

OMB Control Number: 1028-NEW.

Form Number: None.

Type of Review: New.

Respondents/Affected Public: Respondents will include PI-CASC funded projects' principal investigators, co-investigators, and collaborators; graduate scholars and postdocs; and community members. These include individuals from Federal organizations, state organizations (including academic institutions), NGOs, and tribal entities.

Total Estimated Number of Annual Respondents: PI-CASC expects to request surveys from a maximum of 330 respondents (Approximately 85 Federal employees, 20 State or local government employees, 150 University/College researchers, 45 NGO leaders, and 30 international respondents that have been involved and/or impacted by PI-CASC project work). Of these 330 requests, we hope to have a response rate near half, to get an estimated 150 survey responses. We also plan to request interviews with 50 participants from a subset of PI-CASC project case studies. There is likely to be overlap in the participants that complete the surveys and are requested for interviews.

Total Estimated Number of Annual Responses: An estimated 150 surveys and 50 interviews are expected.

Estimated Completion Time per Response: Each survey is expected to take a respondent approximately 10 minutes to complete. For those that agree to an interview, an additional 1 hour is expected to be used per interview.

Total Estimated Number of Annual Burden Hours: An estimated 75 burden hours per year is expected (10 min × 150) + (60 min × 50) = 4500 min → 75 hours. However, if all survey respondents completed our surveys, we could reach a maximum or 105 hours per year (10 min × 330) + (60 min × 50) = 6300 min → 105 hours.

Respondent's Obligation: Voluntary.

Frequency of Collection: The information collection needed to reach the described 150-330 surveys and 50 interviews may take place over multiple years (splitting up the described annual burden hours), and the overall collection process may be potentially repeated per every 5 years to gather information about changes over time.

Total Estimated Annual Nonhour Burden Cost: None.

Project B

Abstract: The USGS PI-CASC and USFWS support the coordinator of the Pacific Regional Invasive Species and Climate Change Management Network (Pacific RISCC), a Community of Practice that includes partnerships with PI-CASC, USGS, USFWS, the University of Hawaii at Mānoa, the State of Hawaii Department of Land and Natural Resources, Division of Forestry & Wildlife, the Coordinating Group on Alien Pest Species, and representatives from all of the U.S. Affiliated Pacific Islands. Pacific RISCC aims to support research and management efforts addressing the individual and interacting impacts of climate change and invasive species in the U.S. Pacific, with the goal of increasing the effectiveness of management and reducing the impacts of climate change and invasive species. Pacific RISCC would like to assess the effectiveness of hosted workshops by surveying attendees. The proposed surveys and interviews will collect the following types of information:

• Demographic characteristics of workshop attendees (field, role/position, location, etc.).

• Pacific RISCC events, products, communications, or tools that are most used by and/of interest to attendees.

• Outstanding invasive species and climate change related challenges and associated research needs.

• Response to workshop in terms of topical relevance, effectiveness, accessibility, and capacity building in a regional context.

The information collected in this effort will be used to better align the future goals and objectives of Pacific RISCC, including future workshops, with the needs of respondants across the Pacific RISCC region.

Respondents/Affected Public: Respondents will include individuals from county, state, and Federal organizations, including land management agencies and academic institutions, individuals from non-profits and NGOs, students, and community members.

Total Estimated Number of Annual Respondents: Pacific RISCC expects to request annual survey completion via the Pacific RISCC Listserv from a maximum of 460 respondents (approximately 100 Federal employees, 40 state or local government employees, 180 university/college researchers (including students), 50 NGO leaders, 85 community members, and 5 international respondents. Additionally, Pacific RISCC expects to request post-workshop surveys twice a year from a maximum of 75 respondents per workshop (affiliations will depend on who signs up, but will likely include Federal, state, and county agency resource managers and scientists from state and Federal institutions).

Total Estimated Number of Annual Responses: An estimated 460 surveys and 12 interviews are expected to be completed from the annual listserv inquiry, and an additional 150 post-workshop survey responses are expected to be returned (610 surveys total). This estimate is based on 100% response rate (actual response rate will likely be much lower).

Estimated Completion Time per Response: Each survey is expected to take a respondent approximately 10 minutes to complete. For those that agree to a follow up interview, an additional 1 hour is expected to be taken per interview.

Total Estimated Number of Annual Burden Hours: An estimated 90 hours are expected to be taken for annual listserv surveys and interviews, and an estimated 25 hours are expected to be taken for the two post-workshop surveys. The total maximum estimated burden hours is 115 hours.

Respondent's Obligation: Voluntary.

Frequency of Collection: Information will be collected annually.

Total Estimated Annual Nonhour Burden Cost: None.

An agency may not conduct or sponsor, and a person is not required to respond to, a collection of information unless it displays a currently valid OMB control number.

The authority for this action is the PRA (44 U.S.C. 3501 et seq.).

Mari-Vaughn Johnson,
Regional Administrator, PI-CASC, USGS.

[FR Doc. 2024-16407 Filed 7-24-24; 8:45 am]

BILLING CODE 4388-11-P